DEPARTMENT OF DEFENSE

Office of the Secretary

Department of Defense Wage Committee (DoDWC); Notice of Federal Advisory Committee Meetings

AGENCY: Under Secretary of Defense for Personnel and Readiness (USD(P&R)), Department of Defense (DoD).

ACTION: Notice of closed federal advisory committee meetings.

SUMMARY: The DoD is publishing this notice to announce that the following Federal Advisory Committee meetings of the DoDWC will take place.

DATES:

Tuesday, February 21, 2023, from 10:00 a.m. to 10:30 a.m. and will be closed to the public.

Tuesday, March 7, 2023, from 10:00 a.m. to 12:00 p.m. and will be closed to the public.

Tuesday, March 21, 2023, from 10:00 a.m. to 12:30 p.m. and will be closed to the public.

Tuesday, April 4, 2023, from 10:00 a.m. to 11:00 a.m. and will be closed to the public.

Tuesday, April 18, 2023, from 10:00 a.m. to 1:00 p.m. and will be closed to the public.

Tuesday, May 2, 2023, from 10:00 a.m. to 11:00 a.m. and will be closed to the public.

Tuesday, May 16, 2023 from 10:00 a.m. to 1:00 p.m. and will be closed to the public.

ADDRESSES: The closed meetings will be held by teleconference. FOR FURTHER INFORMATION CONTACT: Mr. Karl Fendt, (571) 372-1618 (voice), karl.h.fendt.civ@mail.mil. (email), 4800 Mark Center Drive, Suite 05G21, Alexandria, Virginia 22350 (mailing address). Any agenda updates can be found at the DoDWC's official website: https://wageandsalary.dcpas.osd.mil/BWN/DODWC/.

SUPPLEMENTARY INFORMATION: These meetings are being held under the provisions of the Federal Advisory Committee Act (FACA) (5 U.S.C. Appendix), the Government in the Sunshine Act (5 U.S.C. 552b), and 41 CFR 102-3.140 and 102-3.150.

Purpose of the Meeting: The purpose of these meetings is to provide independent advice and recommendations on matters relating to the conduct of wage surveys and the establishment of wage schedules for all appropriated fund and non-appropriated fund areas of blue-collar employees within the DoD.

Agendas

February 21, 2023

Opening Remarks by Chair and Designated Federal Officer (DFO).

Reviewing survey results and/or survey specifications for the following Appropriated Fund areas:

1. Any items needing further clarification or action from the previous agenda.

2. Survey Specifications for the Savannah, Georgia wage area (AC-042).

3. Survey Specifications for the Western Texas wage area (AC-127).

4. Any items needing further clarification from this agenda may be discussed during future scheduled meetings.

Closing Remarks by Chair.

March 7, 2023

Opening Remarks by Chair and DFO.

Reviewing survey results and/or survey specifications for the following Nonappropriated Fund areas:

1. Any items needing further clarification or action from the previous agenda.

2. Survey Specifications for the Hennepin, Minnesota wage area (AC-015).

3. Survey Specifications for the Grand Forks, North Dakota wage area (AC-017).

4. Survey Specifications for the Davis-Weber-Salt Lake, Utah wage area (AC-018).

5. Survey Specifications for the Ada-Elmore, Idaho wage area (AC-038).

6. Survey Specifications for the Cascade, Montana wage area (AC-040).

7. Survey Specifications for the Spokane, Washington wage area (AC-043).

Reviewing survey results and/or survey specifications for the following Appropriated Fund areas:

8. Wage Schedule (Full Scale) for the Jacksonville, Florida wage area (AC-030).

9. Wage Schedule (Full Scale) for the Detroit, Michigan wage area (AC-070).

10. Wage Schedule (Full Scale) for the Southeastern North Carolina wage area (AC-101).

11. Wage Schedule (Full Scale) for the Columbus, Ohio wage area (AC-106).

12. Wage Schedule (Wage Change) for the Birmingham, Alabama wage area (AC-002).

13. Wage Schedule (Wage Change) for the Southern Colorado wage area (AC-023).

14. Wage Schedule (Wage Change) for the Hagerstown-Martinsburg-Chambersburg, Maryland wage area (AC-067).

15. Wage Schedule (Wage Change) for the Dayton, Ohio wage area (AC-107).

16. Wage Schedule (Wage Change) for the Harrisburg, Pennsylvania wage area (AC-114).

17. Wage Schedule (Wage Change) for the Wyoming wage area (AC-150).

18. Special Pay—Jacksonville, Florida Special Rates.

19. Any items needing further clarification from this agenda may be discussed during future scheduled meetings.

Closing Remarks by Chair.

March 21, 2023

Opening Remarks by Chair and DFO.

Reviewing survey results and/or survey specifications for the following Nonappropriated Fund areas:

1. Any items needing further clarification or action from the previous agenda.

2. Wage Schedule (Full Scale) for the Sacramento, California wage area (AC-002).

3. Wage Schedule (Full Scale) for the San Joaquin, California wage area (AC-008).

4. Wage Schedule (Full Scale) for the Bernalillo, New Mexico wage area (AC-019).

5. Wage Schedule (Full Scale) for the Dona Ana, New Mexico wage area (AC-021).

6. Wage Schedule (Full Scale) for the El Paso, Texas wage area (AC-023).

7. Wage Schedule (Wage Change) for the Onslow, North Carolina wage area (AC-097).

8. Wage Schedule (Wage Change) for the Shelby, Tennessee wage area (AC-098).

9. Wage Schedule (Wage Change) for the Christian, Kentucky/Montgomery, Tennessee wage area (AC-099).

10. Wage Schedule (Wage Change) for the Charleston, South Carolina wage area (AC-120).

11. Wage Schedule (Wage Change) for the San Juan-Guaynabo, Puerto Rico wage area (AC-155).

Reviewing survey results and/or survey specifications for the following Appropriated Fund areas:

12. Wage Schedule (Full Scale) for the Denver, Colorado wage area (AC-022).

13. Wage Schedule (Full Scale) for the Miami, Florida wage area (AC-031).

14. Wage Schedule (Full Scale) for the Cincinnati, Ohio wage area (AC-104).

15. Wage Schedule (Full Scale) for the Narragansett Bay, Rhode Island wage area (AC-118).

16. Wage Schedule (Wage Change) for the New York, New York wage area (AC-094).

17. Survey Specifications for the Augusta, Georgia wage area (AC-038).

18. Survey Specifications for the Macon, Georgia wage area (AC-041).

19. Survey Specifications for the Southeastern Washington-Eastern Oregon wage area (AC-144).

20. Special Pay—Narragansett Bay, Rhode Island Special Rates

21. Any items needing further clarification from this agenda may be discussed during future scheduled meetings.

Closing Remarks by Chair.

April 4, 2023

Opening Remarks by Chair and DFO.

Reviewing survey results and/or survey specifications for the following Nonappropriated Fund areas:

1. Any items needing further clarification or action from the previous agenda.

2. Survey Specifications for the Burlington, New Jersey wage area (AC-071).

3. Survey Specifications for the Kent, Delaware wage area (AC-076).

4. Survey Specifications for the Richmond-Chesterfield, Virginia wage area (AC-082).

5. Survey Specifications for the Morris, New Jersey wage area (AC-090).

Reviewing survey results and/or survey specifications for the following Appropriated Fund areas:

6. Survey Specifications for the Duluth, Minnesota wage area (AC-074).

7. Survey Specifications for the San Antonio, Texas wage area (AC-135).

8. Survey Specifications for the Milwaukee, Wisconsin wage area (AC-148).

9. Special Pay—Southeast Power Rate.

10. Any items needing further clarification from this agenda may be discussed during future scheduled meetings.

Closing Remarks by Chair.

April 18, 2023

Opening Remarks by Chair and DFO.

Reviewing survey results and/or survey specifications for the following Nonappropriated Fund areas:

1. Any items needing further clarification or action from the previous agenda.

2. Wage Schedule (Full Scale) for the Lauderdale, Mississippi wage area (AC-001).

3. Wage Schedule (Full Scale) for the Lowndes, Mississippi wage area (AC-004).

4. Wage Schedule (Full Scale) for the Rapides, Louisiana wage area (AC-024).

5. Wage Schedule (Full Scale) for the Caddo-Bossier, Louisiana wage area (AC-025).

6. Wage Schedule (Full Scale) for the Chatham, Georgia wage area (AC-037).

7. Wage Schedule (Full Scale) for the Dougherty, Georgia wage area (AC-046).

8. Wage Schedule (Full Scale) for the Lowndes, Georgia wage area (AC-047).

9. Wage Schedule (Wage Change) for the Oklahoma, Oklahoma wage area (AC-052).

10. Wage Schedule (Wage Change) for the Harrison, Mississippi wage area (AC-070).

11. Wage Schedule (Wage Change) for the Hardin-Jefferson, Kentucky wage area (AC-096).

12. Wage Schedule (Wage Change) for the Wayne, North Carolina wage area (AC-107).

13. Wage Schedule (Wage Change) for the Cumberland, North Carolina wage area (AC-108).

14. Wage Schedule (Wage Change) for the Richland, South Carolina wage area (AC-110).

15. Wage Schedule (Wage Change) for the Wichita, Texas wage area (AC-122).

16. Wage Schedule (Wage Change) for the Comanche, Oklahoma wage area (AC-123).

17. Wage Schedule (Wage Change) for the Craven, North Carolina wage area (AC-164).

Reviewing survey results and/or survey specifications for the following Appropriated Fund areas:

18. Wage Schedule (Full Scale) for the Fresno, California wage area (AC-012).

19. Wage Schedule (Full Scale) for the Sacramento, California wage area (AC-014).

20. Wage Schedule (Full Scale) for the Stockton, California wage area (AC-020).

21. Wage Schedule (Full Scale) for the Louisville, Kentucky wage area (AC-059).

22. Wage Schedule (Full Scale) for the Jackson, Mississippi wage area (AC-078).

23. Wage Schedule (Full Scale) for the Meridian, Mississippi wage area (AC-079).

24. Wage Schedule (Full Scale) for the Eastern Tennessee wage area (AC-123).

25. Wage Schedule (Wage Change) for the Salinas-Monterey, California wage area (AC-015).

26. Wage Schedule (Wage Change) for the Lexington, Kentucky wage area (AC-058).

27. Wage Schedule (Wage Change) for the Northern Mississippi wage area (AC-077).

28. Wage Schedule (Wage Change) for the Rochester, New York wage area (AC-096).

29. Wage Schedule (Wage Change) for the Memphis, Tennessee wage area (AC-124).

30. Wage Schedule (Wage Change) for the Nashville, Tennessee wage area (AC-125).

31. Survey Specifications for the Boise, Idaho wage area (AC-045).

32. Survey Specifications for the Utah wage area (AC-139).

33. Survey Specifications for the Spokane, Washington wage area (AC-145).

34. Special Pay—Fresno, California Special Rates

35. Special Pay—Northern Mississippi Special Rates

36. Any items needing further clarification from this agenda may be discussed during future scheduled meetings.

Closing Remarks by Chair.

May 2, 2023

Opening Remarks by Chair and DFO.

Reviewing survey results and/or survey specifications for the following Nonappropriated Fund areas:

1. Any items needing further clarification or action from the previous agenda.

2. Survey Specifications for the Monterey, California wage area (AC-003).

3. Survey Specifications for Kern, California wage area (AC-010).

4. Survey Specifications for the San Diego, California wage area (AC-054).

5. Survey Specifications for the Solano, California wage area (AC-059).

Reviewing survey results and/or survey specifications for the following Appropriated Fund areas:

6. Survey Specifications for the Dothan, Alabama wage area (AC-003).

7. Survey Specifications for the Pittsburgh, Pennsylvania wage area (AC-116).

8. Survey Specifications for the Puerto Rico wage area (AC-151).

9. Any items needing further clarification from this agenda may be discussed during future scheduled meetings.

Closing Remarks by Chair.

May 16, 2023

Opening Remarks by Chair and DFO.

Reviewing survey results and/or survey specifications for the following Nonappropriated Fund areas:

1. Any items needing further clarification or action from the previous agenda.

2. Wage Schedule (Full Scale) for the Richmond, Georgia wage area (AC-035).

3. Wage Schedule (Full Scale) for the Houston, Georgia wage area (AC-036).

4. Wage Schedule (Full Scale) for the Pulaski, Arkansas wage area (AC-045).

5. Wage Schedule (Full Scale) for the Montgomery, Alabama wage area (AC-048).

6. Wage Schedule (Full Scale) for the Sedgwick, Kansas wage area (AC-078).

7. Wage Schedule (Full Scale) for the Montgomery-Greene, Ohio wage area (AC-166).

8. Wage Schedule (Wage Change) for the Cumberland, Pennsylvania wage area (AC-092).

9. Wage Schedule (Wage Change) for the York, Pennsylvania wage area (AC-093).

10. Wage Schedule (Wage Change) for the Honolulu, Hawaii wage area (AC-106).

11. Wage Schedule (Wage Change) for the Norfolk-Portsmouth-Virginia Beach, Virginia wage area (AC-111).

12. Wage Schedule (Wage Change) for the Hampton-Newport News, Virginia wage area (AC-112).

13. Wage Schedule (Wage Change) for the Harford, Maryland wage area (AC-148).

Reviewing survey results and/or survey specifications for the following Appropriated Fund areas:

14. Wage Schedule (Full Scale) for the Northeastern Arizona wage area (AC-008).

15. Wage Schedule (Full Scale) for the Phoenix, Arizona wage area (AC-009).

16. Wage Schedule (Full Scale) for the Tucson, Arizona wage area (AC-010).

17. Wage Schedule (Full Scale) for the Minneapolis-St. Paul, Minnesota wage area (AC-075).

18. Wage Schedule (Full Scale) for the Albany-Schenectady-Troy, New York wage area (AC-091).

19. Wage Schedule (Full Scale) for the Northern New York wage area (AC-095).

20. Wage Schedule (Full Scale) for the West Virginia area (AC-146).

21. Wage Schedule (Wage Change) for the Reno, Nevada wage area (AC-086).

22. Wage Schedule (Wage Change) for the Syracuse-Utica-Rome, New York wage area (AC-097).

23. Wage Schedule (Wage Change) for the North Dakota wage area (AC-103).

24. Wage Schedule (Wage Change) for the Houston-Galveston-Texas City, Texas wage area (AC-133).

25. Survey Specifications for the Washington, District of Columbia wage area (AC-027).

26. Survey Specifications for the Columbus, Georgia wage area (AC-040).

27. Survey Specifications for the Charlotte, North Carolina wage area (AC-100).

28. Survey Specifications for the Oklahoma City, Oklahoma wage area (AC-109).

29. Special Pay—Pacific Northwest Power Rate

30. Any items needing further clarification from this agenda may be discussed during future scheduled meetings.

Closing Remarks by Chair.

Meeting Accessibility: Pursuant to 5 U.S.C. 552b(c)(4), the DoD has determined that the meetings shall be closed to the public. The USD(P&R), in consultation with the DoD Office of General Counsel, has determined in writing that each of these meetings is likely to disclose trade secrets and commercial or financial information obtained from a person and privileged or confidential.

Written Statements: Pursuant to section 10(a)(3) of the Federal Advisory Committee Act and 41 CFR 102-3.140, interested persons may submit written statements to the DFO for the DoDWC at any time. Written statements should be submitted to the DFO at the email or mailing address listed in the FOR FURTHER INFORMATION CONTACT section. If statements pertain to a specific topic being discussed at a planned meeting, then these statements must be submitted no later than five (5) business days prior to the meeting in question. Written statements received after this date may not be provided to or considered by the DoDWC until its next meeting. The DFO will review all timely submitted written statements and provide copies to all the committee members before the meeting that is the subject of this notice.

Dated: February 1, 2023.
Aaron T. Siegel,
Alternate OSD Federal Register Liaison Officer, Department of Defense.

[FR Doc. 2023-02485 Filed 2-3-23; 8:45 am]

BILLING CODE 5001-06-P